SMALL BUSINESS ADMINISTRATION

[License No. 03/03-0264]

Boathouse Capital II, L.P.; Notice Seeking Exemption Under Section 312 of the Small Business Investment Act, Conflicts of Interest

Notice is hereby given that Boathouse Capital II, L.P., 200 West Lancaster Avenue, Suite 206, Wayne, PA 19087, Federal Licensees under the Small Business Investment Act of 1958, as amended (“the Act”), in connection with the financing of a small concern, has sought an exemption under Section 312 of the Act and Section 107.730, Financings which Constitute Conflicts of Interest of the Small Business Administration (“SBA”) Rules and Regulations (13 CFR 107.730). Boathouse Capital II, L.P. provided financing to Out of Home Holdings, LLC, 330 Roberts Street, Suite 301, East Hartford, CT 06108. The financing was contemplated for the acquisition of Grand Design Media, Inc. and working capital purposes.

The financing is brought within the purview of § 107.730(a)(1) of the Regulations because Boathouse Capital, L.P., an Associate of Boathouse Capital II, L.P., has an equity ownership greater than ten percent of Out of Home Holdings, LLC. Therefore, this transaction is considered financing of an Associate requiring an exemption.

Notice is hereby given that any interested person may submit written comments on the transaction within fifteen days of the date of this publication to the Acting Associate Administrator for Investment, U.S. Small Business Administration, 409 Third Street SW., Washington, DC 20416.

Mark L. Walsh,
Associate Administrator, Office of Investment & Innovation.

[FR Doc. 2016-31510 Filed 12-28-16; 8:45 am]

BILLING CODE P